COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes service(s) from the Procurement List that were furnished by nonprofit agencies employing persons who are blind or have other severe disabilities.

DATES: Date deleted from the Procurement List: August 7, 2022.

ADDRESSES: Committee for Purchase From People Who Are Blind or Severely Disabled, 1401 S. Clark Street, Suite 715, Arlington, Virginia, 22202-4149.

FOR FURTHER INFORMATION CONTACT: Michael R. Jurkowski, Telephone: (703) 785-6404 or email CMTEFedReg@AbilityOne.gov.

SUPPLEMENTARY INFORMATION:

Deletions

On 9/10/2021, 9/17/2021, 12/10/2021, and 12/17/2021, the Committee for Purchase From People Who Are//Blind or Severely Disabled published notice of proposed deletions from the Procurement List. This notice is published pursuant to 41 U.S.C. 8503 (a)(2) and 41 CFR 51-2.3. After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Service(s)

Service Type: Administrative Services

Mandatory for: Internal Revenue Service Mailroom: 1100 Commerce Street, Dallas, TX

Designated Source of Supply: Dallas Lighthouse for the Blind, Inc., Dallas, TX

Contracting Activity: TREASURY, DEPARTMENT OF THE, DEPT OF TREAS/

Service Type: Administrative Services

Mandatory for: Internal Revenue Service Collections Department: 1100 Commerce Street, Dallas, TX

Designated Source of Supply: Dallas Lighthouse for the Blind, Inc., Dallas, TX

Contracting Activity: TREASURY, DEPARTMENT OF THE, DEPT OF TREAS/

Service Type: Custodial service

Mandatory for: White Mountain National Forest, Saco Ranger Administrative Site, Routes 112, 33 Kancamagus Highway, Conway, NH

Designated Source of Supply: Northern New England Employment Services, Portland, ME

Contracting Activity: FOREST SERVICE, ALLEGHENY NATIONAL FOREST

Service Type: Laundry Service

Mandatory for: Virginia Army National Guard, Central Issue Facility, Defense Supply Center Richmond Warehouse 15, 8000 Jefferson Davis Hwy, Richmond, VA

Designated Source of Supply: Louise W. Eggleston Center, Inc., Norfolk, VA

Contracting Activity: DEPT OF THE ARMY, W7N5 USPFO ACTIVITY VA ARNG

Service Type: Custodial service

Mandatory for: US Department of Energy, Jamestown Service Center, 8430 Country Club Street, Jamestown, ND

Designated Source of Supply: Alpha Opportunities, Inc., Jamestown, ND

Contracting Activity: ENERGY, DEPARTMENT OF, WESTERN-UPPER GREAT PLAINS REGION

Michael R. Jurkowski,
Acting Director, Business Operations.

[FR Doc. 2022-14572 Filed 7-7-22; 8:45 am]

BILLING CODE 6353-01-P